DEPARTMENT OF COMMERCE

National Telecommunications and Information Administration

[Docket No. 160810714-6714-01]

RIN 0660-XC029

The Incentives, Benefits, Costs, and Challenges to IPv6 Implementation

AGENCY: National Telecommunications and Information Administration, U.S. Department of Commerce.

ACTION: Notice; reopening of comment period.

SUMMARY: On August 18, 2016, the National Telecommunications and Information Administration (NTIA) issued a notice and request for public comments seeking input to guide NTIA in future Internet Protocol version 6 (IPv6) promotional activities. Through this Notice, NTIA invited adopters and implementers of IPv6 as well as any other interested stakeholders to share information on the benefits, costs, and challenges they have experienced, as well as any insight into additional incentives that could aid future adoption, implementation, and support of IPv6. In response to requests for additional time in which to comment, NTIA through this notice reopens the comment period. Comments received between the October 3, 2016 due date for comments announced in the August 18, 2016 notice, and publication of this notice in the Federal Register, will be deemed to be timely.

DATES: Comments are due no later than 5:00 p.m. Eastern Daylight Time on October 17, 2016.

ADDRESSES: Written comments may be submitted by email to ipv6@ntia.doc.gov. Comments submitted by email should be machine-readable and should not be copy-protected. Written comments also may be submitted by mail to the National Telecommunications and Information Administration, U.S. Department of Commerce, 1401 Constitution Avenue NW., Room 4725, Attn: IPv6 RFC 2016, Washington, DC 20230. Responders should include the name of the person or organization filing the comment, as well as a page number on each page of the submission. All comments received are a part of the public record and will generally be posted to https://www.ntia.doc.gov/federal-registernotice/2016/incentives-benefits-costsand-challenges-ipv6-implementation without change. All personal identifying information (for example, name, address) voluntarily submitted by the commenter may be publicly accessible. Please do not submit business information that is confidential or otherwise protected. NTIA will accept anonymous comments.

FOR FURTHER INFORMATION CONTACT: Ashley Heineman, National Telecommunications and Information Administration, U.S. Department of Commerce, 1401 Constitution Avenue NW., Room 4701, Washington, DC 20230; telephone (202) 482-0298; email aheineman@ntia.doc.gov. Please direct media inquiries to NTIA's Office of Public Affairs, (202) 482-7002 or by email at press@ntia.doc.gov.

SUPPLEMENTARY INFORMATION: The original notice sought public comment to guide NTIA in its future efforts to engage more directly in promoting IPv6 deployment and use, with a particular focus on implementation. See Notice and request for public comment, The Incentives, Benefits, Costs, and Challenges to IPv6 Implementation, 81 FR 55182 (Aug. 18, 2016), available at: http://www.ntia.doc.gov/files/ntia/publications/fr_ipv6_implementation_08182016.pdf. To assist in this purpose, NTIA is asking those who have implemented IPv6 to share their experiences and to highlight in particular the factors and circumstances that supported their decision to move ahead and adopt the protocol. NTIA hopes to utilize input received through this request for comments to guide and inform future promotion efforts, including the IPv6 Best Practice Forum being organized for the 2016 Internet Governance Forum, which will be held in December 2016, in Guadalajara, Mexico.¹

¹ http://www.igf2016.mx/.

The original deadline for submission of comments was October 3, 2016. In response to requests for additional time in which to comment, NTIA reopens the comment period with this notice. Comments received between the October 3, 2016 due date for comments announced in the August 18, 2016 notice, and publication of this notice in the Federal Register, are deemed to be timely.

Request for Comment: NTIA invites comment on the following questions, in whole or in part:

Benefits:

1. What are the benefits of implementing IPv6? For example, what are the direct performance benefits of implementing IPv6 for end users, or for enhanced network security, as compared to IPv4?

2. What are the expected or unexpected benefits of implementing IPv6?

Obstacles:

1. What are the biggest obstacles related to IPv6 implementation? For example, is it difficult to access adequate vendor support for IPv6 hardware and/or software? Does successful implementation depend directly on another service provider?

2. How does an organization overcome those obstacles?

Incentives:

1. What factors contribute to an organization's decision to implement IPv6?

2. What additional incentives would be helpful in a decision to implement IPv6?

3. If one factor made the crucial difference in deciding to implement IPv6, as opposed to not implementing IPv6, what is that factor?

Motivation:

1. What is typically the driving motivation behind an organization's decision to implement IPv6?

2. What are the job titles and/or roles of the people within an organization typically involved in a decision to implement IPv6? What are those individuals' primary motivations when it comes to implementing IPv6?

Return on Investment:

1. What is the anticipated return on an IPv6-related investment? How quickly is a return on investment expected?

2. Is return on investment a reason to implement IPv6, or is implementation considered a cost of doing business?

Implementation:

1. How long does the planning process for IPv6 implementation take?

2. How long does actual implementation of IPv6 typically take? Is implementation a single event or evolutionary?

Cost of Implementation:

1. What are the different types of costs involved in implementing IPv6? What are the typical magnitudes of each type of cost?

2. How does an organization cover those costs?

3. How does an organization justify those costs?

4. What considerations are there for cost-saving?

5. What implication does the size of an organization implementing IPv6 have on cost?

Promotional Efforts:

1. What promotional efforts, if any, should NTIA take? What would have the most impact?

2. What promotional efforts, if any, are being led by the private sector? Have they been effective?

3. Which additional stakeholders should NTIA target? What is the most effective forum?

4. Should NTIA partner with any particular stakeholder group?

Additional Issues: NTIA invites commenters to provide any additional information on other issues not identified in this RFC that could contribute to NTIA's understanding of the considerations that organizations take into account when deciding to proceed with IPv6 implementation, as well as future IPv6 promotional efforts that NTIA may undertake.

Dated: September 29, 2106.
Kathy D. Smith,
Chief Counsel, National Telecommunications and Information Administration.

[FR Doc. 2016-24033 Filed 10-4-16; 8:45 am]

BILLING CODE 3510-60-P